DEPARTMENT OF HEALTH AND HUMAN SERVICES

Centers for Disease Control and Prevention

[Docket No. CDC-2021-0060]

Advisory Committee on Immunization Practices (ACIP); Cancellation of Meeting

Notice is hereby given of a change in the meeting of the Advisory Committee on Immunization Practices (ACIP); June 18, 2021, 11:00 a.m. to 5:00 p.m., EDT (dates and times subject to change), in the original FRN.

The virtual meeting was published in the Federal Register on June 15, 2021, Volume 86, Number 113, pages 31716-31717.

Due to the Federal holiday on June 18, 2021, the ACIP meeting has been canceled in its entirety. In addition, the previously scheduled June 18, 2021 agenda items will be discussed at the ACIP meeting on June 23-25, 2021. Additionally, public comments submitted to docket number CDC-2021-0060 will be shared with ACIP members at or prior to the June 23-25, 2021 meeting.

FOR FURTHER INFORMATION CONTACT: Stephanie Thomas, ACIP Committee Management Specialist, Centers for Disease Control and Prevention, National Center for Immunization and Respiratory Diseases, 1600 Clifton Road NE, MS-H24-8, Atlanta, Georgia 30329-4027; Telephone: (404) 639-8367; Email: ACIP@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-14007 Filed 6-30-21; 8:45 am]

BILLING CODE 4163-18-P